DEPARTMENT OF ENERGY

Western Area Power Administration

DEPARTMENT OF AGRICULTURE

Rural Utility Service

Proposed PrairieWinds Project, South Dakota

Agencies: Western Area Power Administration, U.S. Department of Energy; Rural Utilities Service, U.S. Department of Agriculture.

ACTION: Notice of Intent to Prepare an Environmental Impact Statement and to Conduct Scoping Meetings; Notice of Floodplain and Wetlands Involvement.

SUMMARY: The Western Area Power Administration (Western), an agency within the U.S. Department of Energy (DOE), and Rural Utilities Service (RUS), an agency within the U.S. Department of Agriculture (USDA), intend to jointly prepare an environmental impact statement (EIS) for the proposed PrairieWinds Project (Project) in South Dakota. Western is issuing this Notice of Intent (NOI) to inform the public and interested parties about the proposed Project, conduct a public scoping process, and invite the public to comment on the scope, proposed action, alternatives, and other issues to be addressed in the EIS.

The EIS will address the construction, maintenance and operation of the proposed Project, which would include a 151.5-megawatt (MW) nameplate capacity wind-powered generating facility consisting of wind turbine generators, electrical collector lines, collector substation(s), transmission line(s), communications system, and service roads to access wind turbine sites. The EIS will also address the proposed interconnection with existing Western substations. The proposed Project would be located within portions of Brule, Aurora, and Jerauld counties, South Dakota or entirely within Tripp County, South Dakota.

Portions of the proposed Project may affect floodplains and wetlands, so this NOI also serves as a notice of proposed floodplain or wetland action. Western and RUS will hold public scoping meetings near the proposed Project areas to share information and receive comments and suggestions on the scope of the EIS.

DATES: Open house public scoping meetings will be held on April 28, 2009, at the Holiday Inn Express and Suites, 1360 East Highway 44, Winner, South Dakota, 57580, from 4 p.m. to 7 p.m. CDT; and on April 29, 2009, at the Commerce Street Grille, 118 N. Main Street, Plankinton, South Dakota, 57368, from 4 p.m. to 7 p.m. CDT. The public scoping period starts with the publication of this notice in the Federal Register and will continue through May 15, 2009. To help define the scope of the EIS, written comments should be submitted through the project's Web address: http://www.wapa.gov/sdprairiewinds.htm, or sent by letter, fax, or e-mail no later than May 15, 2009.

ADDRESSES: Written comments on the scope of the EIS should be addressed to Ms. Liana Reilly, Document Manager, Western Area Power Administration, Corporate Services Office, A7400, P.O. Box 281213, Lakewood, Colorado 80228-8213, fax (720) 962-7263, or sent by e-mail to sdprairiewinds@wapa.gov. Comments may also be submitted through the project's Web address: http://www.wapa.gov/sdprairiewinds.htm.

FOR FURTHER INFORMATION CONTACT: For information on the proposed Project, the EIS process, and general information about interconnections with Western's transmission system, contact Ms. Reilly at (800) 336-7288 or the address provided above. Parties wishing to be placed on the Project mailing list for future information, and to receive copies of the Draft and Final EIS when they are available, should also contact Ms. Reilly.

For information on RUS financing, contact Mr. Dennis Rankin, Project Manager, Engineering and Environmental Staff, Rural Utilities Service, Utilities Program, 1400 Independence Avenue, SW., Mail Stop 1571, Washington, DC 20250-1571, telephone (202) 720-1953 or e-mail dennis.rankin@wdc.usda.gov.

For general information on DOE National Environmental Policy Act (NEPA), 42 U.S.C. 4321-4347 review procedures or status of a NEPA review, contact Ms. Carol M. Borgstrom, Director of NEPA Policy and Compliance, GC-20, U.S. Department of Energy, 1000 Independence Avenue, SW., Washington, DC 20585, telephone (202) 586-4600 or (800) 472-2756.

SUPPLEMENTARY INFORMATION: Western, an agency within DOE, markets Federal hydroelectric power to preference customers, as specified by law. These customers include municipalities, cooperatives, public utilities, irrigation districts, Federal and State agencies, and Native American Tribes in 15 western states, including South Dakota. Western owns and operates about 17,000 miles of transmission lines.

RUS, an agency that delivers the USDA's Rural Development Utilities Program, is authorized to make loans and loan guarantees that finance the construction of electric distribution, transmission, and generation facilities, including system improvements and replacements required to furnish and improve electric service in rural areas, as well as demand side management, energy conservation programs, and on-grid and off-grid renewable energy systems.

Basin Electric is a regional wholesale electric generation and transmission cooperative owned and controlled by its member cooperatives. Basin Electric serves approximately 2.5 million customers covering 430,000 square miles in portions of nine states, including Colorado, Iowa, Minnesota, Montana, Nebraska, New Mexico, North Dakota, South Dakota, and Wyoming.

PrairieWinds, SD1, Incorporated (PrairieWinds), is a wholly owned subsidiary of Basin Electric.

Project Description

PrairieWinds proposes to construct, own, operate, and maintain the South Dakota PrairieWinds Project, a 151.5-MW nameplate capacity wind-powered generation facility, including wind-turbine generators, electrical collector lines, collector substation(s), transmission line, communications system, and service access roads to access wind-turbine sites.

There are two possible locations for the proposed Project. One site is located on about 37,000 acres about 15 miles north of White Lake, South Dakota, within Brule, Aurora, and Jerauld counties, South Dakota. For this alternative, the requested interconnection is with Western's electric transmission system at Wessington Springs Substation, located in Jerauld County, South Dakota. The other site is located on about 83,000 acres about 8 miles south of Winner, South Dakota, entirely within Tripp County, South Dakota. If this alternative is selected, the interconnection request will be with Western's electric transmission system at Winner Substation, located in Tripp County.

The proposed Project is subject to the jurisdiction of the South Dakota Public Utilities Commission (SDPUC), which has regulatory authority for siting wind generation facilities and transmission lines within the State. PrairieWinds will submit an application for an Energy Conversion Facility Permit to the SDPUC. The SDPUC permit would authorize PrairieWinds to construct the proposed Project under South Dakota rules and regulations. Western's Federal action is to consider Basin Electric's interconnection request under Western's Open Access Transmission Service Tariff and make a decision whether to approve or deny the interconnection request. If the decision is to approve the request, Western's action would include making necessary system modifications to accommodate the interconnection of the proposed Project. PrairieWinds has requested financial assistance for the proposed Project from RUS. RUS' Federal action is whether to provide financial assistance; accordingly, completing the EIS is one requirement, along with other technical and financial considerations in processing PrairieWind's application.

Western and RUS intend to prepare an EIS to analyze the impacts of their respective Federal actions and the proposed Project in accordance with NEPA, as amended, DOE NEPA Implementing Procedures (10 CFR 1021), the CEQ regulations for implementing NEPA (40 CFR 1500-1508), and RUS Environmental Policies and Procedures (7 CFR 1794). While Western's and RUS' Federal actions would be limited to the approval or denial of the interconnection request, any modifications to Western's power system necessary to accommodate the interconnection, and providing financial assistance for the proposed Project, the EIS will also identify and address the environmental impacts of the proposed Project. The EIS will evaluate in detail the two alternatives, any other viable alternatives identified during the public scoping process, and the No Action Alternative.

Regardless of the site selected, the proposed Project would consist of four main facilities: Turbines, collector system, roads, and transmission lines. PrairieWinds plans to install 101 General Electric 1.5-MW wind turbines for the proposed Project within one of the alternative generation sites. Fifteen additional turbines may be installed within the selected site, pending future load, transmission availability, and renewable production standard requirements. Each generator would have a hub height of 262 feet and a turbine rotor diameter of 252 feet. The total height of each wind turbine would be 389 feet with a blade in the vertical position. The towers would be constructed of tubular steel, approximately 15 feet in diameter at the base, with internal joint flanges. The color of the towers and rotors would be standard white or off-white. During construction, a work/staging area at each turbine would include the crane pad and rotor assembly area. This area would measure about 190 feet by 210 feet. The turbine foundations would typically be mat foundations (inverted T-foundations) or a concentric-ring-shell foundation. The area excavated for the turbine foundations would typically be no more than 70 feet by 70 feet (approximately 0.1 acre). Pad mounted transformers 74 inches by 92 inches by 70 inches would be placed next to each turbine. In some cases, for step-and-touch voltage compliance, an area around a turbine may be covered in 4 inches of gravel, river rock or crushed stone.

Each wind turbine would be interconnected with underground power and communications cables, identified as the collector system. This system would be used to route the power from each turbine to a central collector substation(s) where the electrical voltage would be stepped up from 34.5 kilovolt (kV) to 230-kV. The collector substation(s) would be enclosed in a fence with dimensions about 350 feet by 140 feet. The underground collector system would be placed in one trench or two parallel trenches and connect each of the turbines to a central collector substation. The estimated trench length, including parallel trenches, is 317,000 feet (60 miles).

The fiber optic communication lines for the proposed Project would be installed in the same trenches as the underground electrical collector cables and connect each turbine to a proposed operations and maintenance (O&M) building and collector substation(s). It is anticipated that a 5,500-square foot (50 feet by 110 feet) O&M building would be built within the vicinity of the collector substation. The final location would be determined in consultation with future operations personnel.

New access roads would be built to facilitate both construction and maintenance of the turbines. This road network would be approximately 70 miles of new and/or upgraded roads. These roads would be designed to minimize length and construction impact. Initially, turbine access roads would be built to approximately 25-feet wide, to accommodate the safe operation of construction equipment. Upon completion of construction, the turbine access roads would be reclaimed and narrowed to an extent allowing for the routine maintenance of the facility. Existing roads, including state and county roads and section line roads, would also be improved to aid in servicing the turbine sites. Approximately 30 to 40 miles of new turbine access roads would be built and 25 to 35 miles of existing roads would be used and, where appropriate, improved.

Under one alternative, a new 230-kV transmission line would be required to deliver the power from the collector substation(s) to a new 230-kV Western interconnection point at the existing Wessington Springs Substation. The Wessington Springs Substation is located approximately 9 to 12 miles from the proposed collector substation(s). The proposed line would be built using wood or steel H-frame (two pole) structures or steel single-pole structures. The structures would be about 85 to 95 feet high and span about 800 feet.

The other alternative site, near Winner, would require 34.5-kV to 115-kV collector substation(s) as well as a 115-kV transmission line to interconnect to Western's existing 115-kV Winner Substation. Other facilities would be similar to those described for the proposed Project. Because the proposed Project may involve action in floodplains or wetlands, this NOI also serves as a notice of proposed floodplain or wetland action, in accordance with DOE regulations for Compliance with Floodplain and Wetlands Environmental Review Requirements at 10 CFR 1022.12(a). The EIS will include a floodplain/wetland assessment and, if required, a floodplain/wetland statement of findings will be issued with the Final EIS or Western's and RUS' Records of Decision.

Agency Responsibilities

Western and RUS are serving as co-lead Federal agencies, as defined at 40 CFR 1501.5, for preparation of the EIS. With this notice, Native American Tribes and agencies with jurisdiction or special expertise are invited to be cooperating agencies. Such tribes or agencies may make a request to Western to be a cooperating agency by contacting Western's NEPA Document Manager. Designated cooperating agencies have certain responsibilities to support the NEPA process, as specified at 40 CFR 1501.6(b).

Environmental Issues

This notice is to inform agencies and the public of Western's and RUS' Federal actions, and the proposed Project, and to solicit comments and suggestions for consideration in preparing the EIS. To help the public frame its comments, this notice contains a list of potential environmental issues that Western and RUS have tentatively identified for analysis. These issues include:

1. Impacts on protected, threatened, endangered, or sensitive species of animals or plants;

2. Impacts on avian and bat species;

3. Impacts on land use, recreation, and transportation;

4. Impacts on cultural or historic resources and tribal values;

5. Impacts on human health and safety;

6. Impacts on air, soil, and water resources (including air quality and surface water impacts);

7. Visual impacts; and

8. Socioeconomic impacts and disproportionately high and adverse impacts to minority and low-income populations.

This list is not intended to be all-inclusive or to imply any predetermination of impacts. Environmental issues associated with Western's action, RUS' action, and PraireWinds' proposed Project will be addressed separately in the EIS. Western and RUS invite interested parties to suggest specific issues within these general categories, or other issues not included above, to be considered in the EIS.

Public Participation

Public participation and full disclosure are planned for the entire EIS process. The EIS process will include public scoping open house meetings and a scoping comment period to solicit comments from interested parties; consultation and involvement with appropriate Federal, State, local, and tribal governmental agencies; public review and a hearing on the draft EIS; publication of a final EIS; and publication of separate Records of Decision by Western and RUS, currently anticipated in 2010. Additional informal public meetings may be held in the proposed Project areas, if public interest and issues indicate a need.

The public scoping period begins with publication of this notice in the Federal Register and closes May 15, 2009. The purpose of the scoping meetings is to provide information about Western's Federal action, RUS's Federal action, and the proposed Project, display maps, answer questions, and take written comments from interested parties.

Western and RUS will hold open house public scoping meetings in Plankinton, South Dakota and Winner, South Dakota as noted above. Attendees are welcome to come and go at their convenience and to speak one-on-one with Project representatives and agency staff. The public will have the opportunity to provide written comments at the meeting. In addition, attendees may provide written comments by letter, fax, e-mail, or through the project's Web address.

To be considered in defining the scope of the EIS, comments should be received by the end of the scoping period. Anonymous comments will not be accepted.

Dated: March 30, 2009.
Timothy J. Meeks,
Administrator.
Dated: March 26, 2009.
Mark S. Plank,
Director, Engineering and Environmental Staff, Rural Utilities Service.

[FR Doc. E9-7813 Filed 4-6-09; 8:45 am]

BILLING CODE 6450-01-P